GENERAL SERVICES ADMINISTRATION

48 CFR Parts 552 and 538

[OMB Control No. 3090-00XX; Docket 2012-0001; Sequence 21]

General Services Administration Acquisition Regulation; Submission for OMB Review; Modifications 552.243-72 (Multiple Award Schedules)

AGENCY: Office of Acquisition Policy, General Services Administration (GSA).

ACTION: Notice of request for public comments on an information collection requirement for an OMB clearance.

SUMMARY: Under the provisions of the Paperwork Reduction Act, the Regulatory Secretariat will be submitting to the Office of Management and Budget (OMB) a request to review and approve an information collection requirement regarding the Modifications (Multiple Award Schedule) clause.

DATES: Submit comments on or before: April 25, 2013.

FOR FURTHER INFORMATION CONTACT: Ms. Dana Munson, General Services Acquisition Policy Division, GSA, (202) 357-9652 or email Dana.Munson@gsa.gov for clarification of content. For information pertaining to status or publication schedules, contact the Regulatory Secretariat at 202-501-4755. Please cite information collection 3090-00XX.

ADDRESSES: Submit comments identified by Information Collection 3090-00XX, Modifications, by any of the following methods:

• Regulations.gov: http://www.regulations.gov. Submit comments via the Federal eRulemaking portal by inputting “Information Collection 3090-00XX, Modifications,” under the heading “Enter Keyword or ID” and selecting “Search”. Select the link “Submit a Comment” that corresponds with “Information Collection 3090-00XX, Modifications.” Follow the instructions provided at the “Submit a Comment” screen. Please include your name, company name (if any), and “Information Collection 3090-00XX, Modifications,” on your attached document.

• Fax: 202-501-4067.

• Mail: General Services Administration, Regulatory Secretariat (MVCB), 1275 First Street NE., Washington, DC 20417. ATTN: Hada Flowers/IC 3090-00XX, Information Collection 3090-00XX, Modifications.

Instructions: Please submit comments only and cite Information Collection 3090-00XX, Modifications, in all correspondence related to this collection. All comments received will be posted without change to http://www.regulations.gov, including any personal and/or business confidential information provided.

SUPPLEMENTARY INFORMATION:

A. Purpose

GSA is proposing to amend the General Services Administration Acquisition Regulation (GSAR) to add clause 552.243-72 Modifications (Multiple Award Schedules). Under the modifications clause, vendors may request a contract modification by submitting a request to the Contracting Officer for approval. At a minimum, every request shall describe the proposed change(s) and provide the rationale for the requested change(s).

B. Discussion and Analysis

A notice for this collection was published in the Federal Register at 77 FR 74631, on December 17, 2012. One comment was received.

Comment: The commenter suggested that GSA increase the estimated burden hours per response to reflect the additional time required for complex modification requests. Further, the commenter stated that the number of estimated respondents per year be reduced, based on the logic that companies with zero sales under their contracts are not likely to submit modification requests.

Response: In calculating the current estimate of five burden hours per response, GSA has taken into consideration that modification requests can range from simple administrative changes to more complex changes involving the award of additional products and services. Additionally, the current estimate of 20,500 respondents per year is based on the total number of contracts awarded under the Federal Supply Schedule program, and is utilized consistent with other Federal Supply Schedule burden calculations for clauses and provisions applicable to all Federal Supply Schedule contracts. As a result, no change to the burden estimate for this collection was made.

C. Annual Reporting Burden

Respondents: 20,500.

Responses per Respondent: 3.

Total Responses: 61,500.

Hours per Response: 5.

Total Burden Hours: 307,500.

Obtaining Copies of Proposals: Requesters may obtain a copy of the information collection documents from the General Services Administration, Regulatory Secretariat (MVCB), 1275 First Street NE., Washington, DC 20417; telephone (202) 501-4755. Please cite OMB Control No. 3090-00XX, ”Modifications” in all correspondence.

Dated: March 20, 2013.
Joseph A. Neurauter,
Director, Office of Acquisition Policy, Senior Procurement Executive.

[FR Doc. 2013-06860 Filed 3-25-13; 8:45 am]

BILLING CODE 6820-61-P